DEPARTMENT OF AGRICULTURE

Commodity Credit Corporation

7 CFR Part 1470

RIN 0578-AA43

Conservation Stewardship Program

AGENCY: Commodity Credit Corporation, Natural Resources Conservation Service, United States Department of Agriculture.

ACTION: Final rule; correction.

SUMMARY: The Natural Resources Conservation Service is correcting a final rule that appeared in the Federal Register of June 3, 2010 (75 FR 31653). The document 2010-12699, concerning the Conservation Stewardship Program, contained an error in the words of “issuance” at the end of the preamble.

DATES: Effective Date: The rule is effective June 3, 2010.

FOR FURTHER INFORMATION CONTACT: Dwayne Howard, Branch Chief, Financial Assistance Programs Division, Department of Agriculture, Natural Resources Conservation Service, 1400 Independence Avenue, SW., Room 5237 South Building, Washington, DC. 20250; Telephone: (202) 720-1845; Fax: (202) 720-4265; or e-mail: Dwayne.howard@wdc.usda.gov.

SUPPLEMENTARY INFORMATION: In FR Doc. 2010-12699 appearing on page 31653 in the Federal Register of Thursday, June 3, 2010, the following correction is made:

Words of Issuance [Corrected]

(1) On page 31653, in the second column, the Words of Issuance that read “For the reasons stated above, the CCC adds part 1470 of the CFR to read as follows:” is corrected to read: ”For the reasons stated above, the CCC revises part 1470 of Title 7 of the CFR to read as follows:”

Signed June 15, 2010, in Washington, DC.
Teressa Davis,
Rulemaking Manager, Natural Resources Conservation Service.

[FR Doc. 2010-14847 Filed 6-18-10; 8:45 am]

BILLING CODE 3410-16-P